DEPARTMENT OF LABOR

Employment and Training Administration

[TA-W-53,990]

Quadelle Textile Corporation, West New York, NJ; Notice of Termination of Investigation

Pursuant to section 221 of the Trade Act of 1974, an investigation was initiated on January 12, 2004 in response to a worker petition which was filed by a company official on behalf of workers at Quadelle Textile Corporation, West New York, New Jersey (TA-W-53,990).

The petitioner has requested that the petition be withdrawn. Consequently, further investigation in this case would serve no purpose, and the investigation has been terminated.

Signed in Washington, DC, this 10th day of February, 2004.
Linda G. Poole,
Certifying Officer, Division of Trade Adjustment Assistance.

[FR Doc. 04-3919 Filed 2-23-04; 8:45 am]

BILLING CODE 4510-30-P